SMALL BUSINESS ADMINISTRATION

[Disaster Declaration # 10614]

Arizona Disaster Number AZ-00005

AGENCY: Small Business Administration.

ACTION: Amendment 1.

SUMMARY: This is an amendment of the Presidential declaration of a major disaster for Public Assistance Only for the State of Arizona (FEMA-1660-DR), dated 09/07/2006.

Incident: Severe Storms and Flooding.

Incident Period: 07/25/2006 through 08/04/2006.

Effective Date: 09/29/2006.

Physical Loan Application Deadline Date: 11/06/2006.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Arizona, dated 09/07/2006, is hereby amended to include the following areas as adversely affected by the disaster.

Primary Counties: Gila, Graham, Greenlee, Navajo, The Tribal Areas of The Hopi Tribe Within Navajo County, The Navajo Nation Within Navajo County, and The San Carlos Apache Tribe Within Gila, Graham, and Pinal Counties.

All other information in the original declaration remains unchanged.

(Catalog of Federal Domestic Assistance Number 59008)

James E. Rivera,
Acting Associate Administrator for Disaster Assistance.

[FR Doc. E6-17155 Filed 10-16-06; 8:45 am]

BILLING CODE 8025-01-P